DEPARTMENT OF HEALTH AND HUMAN SERVICES

Centers for Disease Control and Prevention

[60Day-16-16BFQ; Docket No. CDC-2016-0096]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on a proposed study project entitled “Survey of Sexually Transmitted Disease (STD) Provider Practices in the United States”. The primary goal of this study is to better understand policies and practices for STD care delivery among medical providers who typically see patients for STDs. Another goal is to assess awareness and use of CDC's STD treatment guidelines.

DATES: Written comments must be received on or before December 5, 2016.

ADDRESSES: You may submit comments, identified by Docket No. CDC-2016-0096 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Survey of Sexually Transmitted Disease (STD) Provider Practices in the United States—NEW—National Center for HIV/AIDS, Viral Hepatitis, STD, and TB Prevention (NCHHSTP), Centers for Disease Control and Prevention (CDC).

Background and Brief Description

Each year, 19.7 million sexually transmitted diseases (STDs) occur in the U.S., half of which strike youth 15−24 years of age.—The public health burden of STDs is compounded by their economic impact. In 2010, an estimated $15.6 billion in direct medical costs were attributed to STDs. Undiagnosed and untreated STDs can lead to serious long-term health consequences, especially for adolescent girls and young adult women. For example, every year, about 24,000 young women become infertile as a result of undiagnosed and untreated STDs. The STD Provider Survey will collect much needed data from U.S. health care providers in specialties that typically see STD patients, including physician specialties such as obstetrics/gynecology, internal medicine, general or family practice, emergency medicine, or pediatrics. Knowledge of provider practices relative to guidelines and state-level laws and policies will provide information useful to stakeholders at all levels regarding the delivery of STD preventive services and treatment by health care providers in the U.S. As providers are one of the few professionals who have face-to-face contact with persons infected with STDs, they are also a potential intervention point for attempts to reduce re-infection and halt the further transmission of STDs. There is no national survey that collects detailed information on STD practices of physicians who typically see STD patients.

The purpose of this survey is to conduct a nationally representative survey of physicians who typically see STD patients (e.g., primary care—including internal medicine, general or family practice, obstetrics/gynecology, emergency medicine, and pediatrics) that would allow for national estimates and comparisons among specialties. Additionally, the survey will provide national estimates for comparisons between providers in the public and private sectors. Information collected will also be used to determine STD prevention activities needed by type of providers (by specialty or public/private) based on findings related to screening and treatment practices for STDs including EPT.

The survey contains sections on the physician's specialty areas, primary practice setting, primacy practice policies, patient demographics, STD testing and diagnosis, STD care and treatment, and respondent demographics.

In an effort to better understand policies and practices for STD care delivery among medical providers who typically see patients for STDs, the surveys will be sent to a random sample of 5,000 U.S. physicians across several specialties using the American Medical Association Master file. Using a multimode design (mail and web), multiple reminders will be sent to non-responders in order to reach the target of 3,000 completed surveys.

There is no cost to respondents.

Estimated Annualized Burden Hours
Type of respondents | Form name | Number of respondents | Number of responses per respondent | Average burden per response (in hours) | Total burden (in hours)
Physicians responding via Mail | STD Provider Survey | 2,250 | 1 | 20/60 | 750
Physicians responding via Web | STD Provider Survey | 750 | 1 | 32/60 | 400
Total |  |  |  |  | 1,150

Leroy A. Richardson,
Chief, Information Collection Review Office, Office of Scientific Integrity, Office of the Associate Director for Science, Office of the Director, Centers for Disease Control and Prevention.

[FR Doc. 2016-23925 Filed 10-3-16; 8:45 am]

BILLING CODE 4163-18-P